DEPARTMENT OF HEALTH AND HUMAN SERVICES

Centers for Medicare & Medicaid Services

[Document Identifier CMS-10451]

Public Information Collection Requirements Submitted to the Office of Management and Budget (OMB); Correction

AGENCY: Centers for Medicare & Medicaid Services (CMS), HHS.

ACTION: Correction of notice.

SUMMARY: This document corrects a technical error in the notice [Document Identifier: CMS-10451] entitled “Evaluation and Development of Outcome Measures for Quality Assessment in Medicare Advantage and Special Needs Plans” that was published in the October 26, 2012 (77 FR 65391) Federal Register.

FOR FURTHER INFORMATION CONTACT: William Parham, (410) 786-4669.

SUPPLEMENTARY INFORMATION:

I. Background

In the FR Doc. 2012-16514 of October 26, 2012 (77 FR 65391), we published a Paperwork Reduction Act notice requesting a 60-day public comment period for the document entitled “Evaluation and Development of Outcome Measures for Quality Assessment in Medicare Advantage and Special Needs Plans.”

There were technical delays with making the information collection request publicly available; therefore, in this notice we are extending the comment period from the date originally listed in the October 26, 2012 notice.

II. Correction of Error

In FR Doc. 2012-26380 of October 26, 2012 (77 FR 65391), make the following correction:

On page 65391, second column, third full paragraph, fourth line, the sentence, “To be assured consideration, comments and recommendations must be submitted in one of the following ways by December 26, 2012:” is corrected to read “To be assured consideration, comments and recommendations must be submitted in one of the following ways by January 2, 2012:”.

Dated: December 7, 2012.
Martique Jones,
Director, Division of Regulations Development-B, Office of Strategic Operations and Regulatory Affairs.

[FR Doc. 2012-29956 Filed 12-11-12; 8:45 am]

BILLING CODE 4120-01-P